DEPARTMENT OF STATE

[Public Notice: 12079]

Notice of Meeting of Advisory Committee on International Law

A meeting of the Department of State's Advisory Committee on International Law will take place on Friday June 9, 2023, from 9:00 a.m. to 3:15 p.m. at the George Washington University Law School, Frederick Lawrence Student Conference Center, 2023 G St. NW, 2nd Floor, Washington, DC. Acting Legal Adviser Richard C. Visek will chair the meeting, which will be open to the public up to the capacity of the meeting room. The meeting will include discussions on international law topics, including how non-intervention applies in cyberspace and developments with Advisory Opinions at the International Court of Justice.

Members of the public who wish to attend should contact the Office of the Legal Adviser by May 26 at rangchitm@state.gov or 202-485-6590 and provide their name, professional affiliation (if any), email address, and phone number. Priority for in-person seating will be given to members of the Advisory Committee, and remaining seating will be reserved based upon when persons contact the Office of the Legal Adviser. A more detailed agenda will be available to registered participants in advance of the meeting. Attendees who require reasonable accommodation should make their requests by May 26. Requests received after that date will be considered but might not be possible to accommodate.

Tara M. Rangchi,
Executive Director, Advisory Committee on International Law, Department of State.

[FR Doc. 2023-10736 Filed 5-18-23; 8:45 am]

BILLING CODE 4710-08-P